DEPARTMENT OF AGRICULTURE

Forest Service

Information Collection; Appeal of Decisions Relating to Occupancy or Use of National Forest System Lands and Resources

AGENCY: Forest Service, USDA.

ACTION: Notice; requests for comments.

SUMMARY: In accordance with the Paperwork Reduction Act of 1995, the Forest Service is seeking comments on the renewal of a currently approved information collection.

DATES: Comments must be received in writing by August 5, 2019 to be considered.

ADDRESSES: Comments concerning this notice should be addressed to USDA Forest Service, Nancy Rusho, Administrative Review Specialist, Ecosystem Management Coordination staff, 202-731-9196 or by email to nancy.rusho@usda.gov.

The public may inspect comments received at the Office of Ecosystem Management Coordination, USDA Forest Service, 201 14th Street SW, Mail Stop 1104, Washington, DC 20024-1101, during normal business hours. Visitors are encouraged to call ahead at 202-731-9196 to facilitate entry into the building.

FOR FURTHER INFORMATION CONTACT: Nancy Rusho, Administrative Review Specialist, Ecosystem Management Coordination staff, 202-731-9196. Individuals who use telecommunication devices for the deaf may call the Federal Relay Service at 800 877-8339 twenty four hours a day, every day of the year, including holidays.

SUPPLEMENTARY INFORMATION:

Title: Appeal of Decisions Relating to Occupancy or Use of National Forest System Lands and Resources.

OMB Number: 0596-0231.

Expiration Date of Approval: October 31, 2019.

Type of Request: Renewal of a currently approved information collection.

Abstract: This appeal process has been in use since June 5, 2013. It is the appeal process for decisions related to occupancy or use of National Forest System lands and resources for the administrative appeal process per 36 CFR 214. The information collected will be used by the Forest Service to determine if the decision that was appealed should be affirmed or reversed in whole or in part. These appeal procedures are limited to holders, operators, and solicited applicants who therefore are the only individuals or entities subject to the information collection requirement.

Estimate of Annual Burden: 8 hours per application.

Type of Respondents: People Appealing Decisions to Occupancy or Use of National Forest System Lands and Resources decisions.

Estimated Annual Number of Respondents: 25.

Estimated Annual Number of Responses per Respondent: One.

Estimated Total Annual Burden on Respondents: 200 hours.

Public Comment: Public comment is invited on (1) whether this information collection is necessary for the stated purposes and the proper performance of the functions of the Agency, including whether the information will have practical or scientific utility; (2) the accuracy of the Agency's estimate of the burden of the information collection, including the validity of the methodology and assumptions used; (3) ways to enhance the quality, utility, and clarity of the information to be collected; and (4) ways to minimize the burden of the information collection on respondents, including the use of automated, electronic, mechanical, or other technological collection techniques or other forms of information technology.

All comments received in response to this notice, including names and addresses when provided, will be a matter of public record. Comments will be summarized and included in the request for OMB approval of the information collection.

Dated: May 15, 2019.
Frank Beum,
Acting Associate Deputy Chief, National Forest System.

[FR Doc. 2019-11846 Filed 6-5-19; 8:45 am]

BILLING CODE 3411-15-P